FEDERAL COMMUNICATIONS COMMISSION

47 CFR Part 73

[DA 03-192; MB Docket No. 03-24, RM-10636; MB Docket No. 03-25, RM-10637; MB Docket No. 03-26, RM-10638]

Radio Broadcasting Services; Apopka, Homosassa Springs, and Maitland, FL; Basin City and Othello, WA; and Shawnee and Topeka, KS

AGENCY: Federal Communications Commission.

ACTION: Proposed rule.

SUMMARY: This document sets forth three separate proposals to amend the FM Table of Allotments, Section 73.202(b) of the Commission's rules, 47 CFR 73.202(b). The Commission requests comment on a petition filed by Cox Radio, Inc. pursuant to Section 1.420(i) of the Commission's rules, 47 CFR 1.420(i). Petitioner proposes to change the community of allotment and upgrade the license for Channel 237A at Apopka, Florida, to Channel 237C3 at Maitland, Florida, and to modify the license of WPYO(FM) accordingly. In order to facilitate those changes, petitioner further proposes to relocate the transmitter site of WXCV(FM), Homosassa Springs, Florida, and to modify the license for WXCV(FM). Channel 237C3 can be allotted to Maitland in compliance with the Commission's minimum distance separation requirements with a site restriction of 14.7 km (9.2 miles) east of Maitland. The coordinates for Channel 237C3 at Maitland are 28-39-38 North Latitude and 81-13-02 West Longitude. Petitioner contends that the proposal does not require a Tuck analysis because it is relocating from one community in the Orlando, Florida Urbanized Area to another community also located within that Urbanized Area, but the petition nonetheless contains a Tuck analysis to establish that Maitland is independent of the Orlando Urbanized Area. See Supplementary Information infra.

DATES: Comments must be filed on or before March 24, 2003, and reply comments on or before April 8, 2003.

ADDRESSES: Federal Communications Commission, Washington, DC 20554. In addition to filing comments with the FCC, interested parties should serve counsel for the petitioner as follows: Kevin F. Reed, Elizabeth A. M. McFadden, and Nam E. Kim, Dow, Lohnes & Albertson, PLLC (counsel for Cox Radio, Inc.), 1200 New Hampshire Avenue, NW., Suite 800, Washington, DC 20036; Barry A. Friedman, Thompson Hine LLP (counsel for Wheeler Broadcasting, Inc.), 1920 N Street, NW., Suite 800, Washington, DC 20036-1600; and Mark N. Lipp and J. Thomas Nolan, Shook, Hardy & Bacon (counsel for Cumulus Licensing Corporation), 600 Fourteenth Street, NW., Suite 800, Washington, DC 20005-2004.

FOR FURTHER INFORMATION CONTACT: Deborah A. Dupont, Media Bureau, (202) 418-7072.

SUPPLEMENTARY INFORMATION: This is a synopsis of the Commission's Notice of Proposed Rule Making, MB Docket Nos. 03-24, 03-25, and 03-26; adopted January 29, 2003 and released January 31, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Commission further requests comment on a petition filed by Wheeler Broadcasting, Inc. pursuant to Section 1.420(i) of the Commission's rules, 47 CFR 1.420(i). Petitioner proposes to change the community of allotment and upgrade the license for Channel 248C3 at Othello, Washington, to Channel 248C2 at Basin City, Washington, as a first local service, and to modify the license of KZLN(FM) accordingly. Channel 248C2 can be allotted to Basin City in compliance with the Commission's minimum distance separation requirements with a site restriction of 7.2 km (4.5 miles) north of Basin City. The coordinates sfor Channel 248C2 at Basin City are 46-39-26 North Latitude and 119-10-23 West Longitude. The proposal does not require a Tuck analysis because neither the existing Channel 248C3 facility at Othello nor the proposed Channel 248C2 facility at Basin City cover any part of any urbanized area within the 70 dBu contour.

The Commission further requests comment on a petition filed by Cumulus Licensing Corporation pursuant to Section 1.420(i) of the Commission's rules, 47 CFR 1.420(i). Petitioner proposes to change the community of allotment and downgrade the license for Channel 299C at Topeka, Kansas, to Channel 299C1 at Shawnee, Kansas, and to modify the license of KMAJ(FM) accordingly. Channel 299C1 can be allotted to Shawnee in compliance with the Commission's minimum distance separation requirements with a site restriction of 41.3 km (25.6 miles) west of Shawnee. The coordinates for Channel 299C1 at Shawnee are 39-09-06 North Latitude and 95-09-28 West Longitude. Petitioner contends that the proposal does not require a Tuck analysis because the proposal would move the station from one urbanized area to another, but the petition nonetheless contains a Tuck analysis to establish that Shawnee deserves a first local service preference.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Florida, is amended by removing Apopka, Channel 237A and by adding Maitland, Channel 237C3.

3. Section 73.202(b), the Table of FM Allotments under Kansas, is amended by removing Channel 299C at Topeka and by adding Shawnee, Channel 299C1.

4. Section 73.202(b), the Table of FM Allotments under Washington, is amended by adding Basin City, Channel 248C2 and by removing Othello, Channel 248C3.

Federal Communications Commission.
John A. Karousos,
Assistant Chief, Audio Division, Media Bureau.

[FR Doc. 03-3952 Filed 2-18-03; 8:45 am]

BILLING CODE 6712-01-P